DEPARTMENT OF AGRICULTURE

Food Safety and Inspection Service

[Docket No. FSIS-2013-0030]

Codex Alimentarius Commission: Meeting of the Codex Committee on Nutrition and Foods for Special Dietary Uses

AGENCY: Office of the Under Secretary for Food Safety, USDA.

ACTION: Notice of public meeting and request for comments.

SUMMARY: The Office of the Under Secretary for Food Safety, U.S. Department of Agriculture (USDA), and the Food and Drug Administration (FDA), Office of Nutrition, Labeling, and Dietary Supplements are sponsoring a public meeting on October 3, 2013. The objective of the public meeting is to provide information and receive public comments on agenda items and draft United States positions that will be discussed at the Thirty-fifth session of the Codex Committee on Nutrition and Foods for Special Dietary Uses (CCNFSDU), taking place in Bad Soden am Taunus, Germany from November 4-8, 2013. The Under Secretary for Food Safety and the FDA recognize the importance of providing interested parties the opportunity to obtain background information on the 35th session of the CCNFSDU and to address items on the agenda.

DATES: The public meeting is scheduled for October 3, 2013 from 1:00 p.m.-4:00 p.m.

ADDRESSES: The public meeting will be held in the Harvey Wiley Building, United States Food and Drug Administration, CFSAN, 5100 Paint Branch Parkway, Room (1A-001 & 1A002), College Park, MD 20740.

Documents related to the 35th session of the CCNFSDU will be accessible via the World Wide Web at the following address: http://www.codexalimentarius.org/meetings-reports/en/. Paula Trumbo, U.S. Delegate to the 35th session of the CCNFSDU invites U.S. interested parties to submit their comments electronically to the following email address: CCNFSDU@fda.hhs.gov.

Pre-Registration

To pre-register for this meeting, please send the following information to this email address: (nancy.crane@fda.hhs.gov).

• Your name

• Organization

• Mailing address

• Phone number

• Email address

Call-In Number

If you wish to participate in the public meeting for the 35th session of the CCNFSDU by conference call, please use the call-in number and participant code listed below.

Call-in Number: 1-866-859-5767

Participant Code: 2225276

For Further Information About the 35th Session of the CCNFSDU Contact: Nancy Crane, Senior Advisor to the U.S. CCNFSDU Delegate, Office of Nutritional Products, Labeling and Dietary Supplements, Center for Food Safety and Applied Nutrition, Food and Drug Administration, (HFS-830), 5100 Paint Branch Parkway, College Park, MD 20740; Telephone: (240) 402-1450, Fax: (301) 436-2636, Email: Nancy.Crane@fda.hhs.gov.

For Further Information About the Public Meeting Contact: Doreen Chen-Moulec, U.S. Codex Office, 1400 Independence Avenue SW., Room 4865, Washington, DC 20250; Telephone: (202) 720-4063, Fax: (202) 720-3157, Email: Doreen.Chen-Moulec@fsis.usda.gov.

SUPPLEMENTARY INFORMATION: The Codex Alimentarius Commission (Codex) was established in 1963 by two United Nations organizations, the Food and Agriculture Organization (FAO) and the World Health Organization (WHO). Through adoption of food standards, codes of practice, and other guidelines developed by its committees, and by promoting their implementation by governments, Codex seeks to protect the health of consumers and ensure that fair practices are used in trade.

The CCNFSDU is Responsible for:

(a) Studying specific nutritional problems assigned to it by the Commission and advising the Commission on general nutrition issues;

(b) drafting general provisions, as appropriate, concerning the nutritional aspects of all foods;

(c) developing standards, guidelines or related texts for foods for special dietary uses, in cooperation with other committees where necessary;

(d) considering, amending if necessary, and endorsing provisions on nutritional aspects proposed for inclusion in Codex standards, guidelines and related texts.

Issues To Be Discussed at the Public Meeting

The following items on the Agenda for the 35th session of the CCNFSDU will be discussed during the public meeting:

• Matters Referred to the Committee by the Codex Alimentarius Commission and/or Other Codex Committees.

• Matters of Interest Arising from FAO and WHO.

• Proposed Draft Additional or Revised Nutrient Reference Values for Labeling Purposes in the Codex Guidelines on Nutrition Labeling at Step 4.

• Proposed Draft Revision of the Codex General Principles for the Addition of Essential Nutrients to Foods at Step 4.

• Proposed Draft Amendment of the Standard for Processed Cereal-Based Foods for infants and Young Children (Codex Stan 74-1981) to include a New Part B for underweight Children at Step 4.

• Review of the Codex Standard for Follow-up Formula (Codex Stan 156-1987).

• Proposed Draft Revision of the List of Food Additives.

• Discussion Paper on a Potential NRV for Potassium in relation to the risk of NCD.

• Discussion Paper on Biofortification.

Each issue listed will be fully described in documents distributed, or to be distributed, by the Secretariat prior to the Meeting. Members of the public may access or request copies of these documents (see ADDRESSES).

USDA Nondiscrimination Statement

The U.S. Department of Agriculture (USDA) prohibits discrimination in all its programs and activities on the basis of race, color, national origin, gender, religion, age, disability, political beliefs, sexual orientation, and marital or family status. (Not all prohibited bases apply to all programs).

Persons with disabilities who require alternative means for communication of program information (Braille, large print, audiotape, etc.) should contact USDA's Target Center at (202) 720-2600 (voice and TTY).

To file a written complaint of discrimination, write USDA Office of the Assistant Secretary for Civil Rights, 1400 Independence Avenue SW., Washington, DC 20250-9410 or call (202) 720-5964 (voice and TTY). USDA is an equal opportunity provider and employer.

FSIS will announce this notice on-line through the FSIS Web page located at http://www.fsis.usda.gov/wps/portal/fsis/topics/regulations/federal-register. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an email subscription service which provides automatic and customized access to selected food safety news and information. This service is available at http://www.fsis.usda.gov/wps/portal/fsis/programs-and-services/email-subscription-service. Options range from recalls to export information to regulations, directives and notices. Customers can add or delete subscriptions themselves and have the option to password protect their account.

Done at Washington, DC, on: September 10, 2013.
Mary Frances Lowe,
U.S. Codex Manager.

[FR Doc. 2013-22488 Filed 9-13-13; 8:45 am]

BILLING CODE 3410-DM-P